DEPARTMENT OF COMMERCE

National Oceanic and Atmospheric Administration

[I.D. 072605C]

Permits; Foreign Fishing

AGENCY: National Marine Fisheries Service (NMFS), National Oceanic and Atmospheric Administration (NOAA), Commerce.

ACTION: Notice of receipt of foreign fishing application; request for comments.

SUMMARY: NMFS publishes for public review and comment information regarding a foreign fishing application submitted under provisions of the Magnuson-Stevens Fishery Conservation and Management Act (Magnuson-Stevens Act).

DATES: Written comments must be received by August 16, 2005.

ADDRESSES: Send written comments or requests for a copy of the application to NMFS, Office of International Affairs, International Fisheries Division, 1315 East-West Highway, Silver Spring, MD 20910.

Comments on this notice may also be submitted by e-mail to nmfs.foreignfishing@noaa.gov. Include in the subject line the following document identifier: 072605C.

FOR FURTHER INFORMATION CONTACT: Robert A. Dickinson, Office of International Affairs, (301) 713-2276.

SUPPLEMENTARY INFORMATION:

Background

Section 204(d) of the Magnuson-Stevens Act (16 U.S.C. 1824(d)) provides, among other things, that the Secretary of Commerce (Secretary) may issue a transshipment permit which authorizes a vessel other than a vessel of the United States to engage in fishing consisting solely of transporting fish or fish products at sea from a point within the U.S. Exclusive Economic Zone (EEZ) or, with the concurrence of a state, within the boundaries of that state to a point outside the United States.

Section 204(d)(3)(D) of the Magnuson-Stevens Act provides that an application may not be approved until the Secretary determines that “no owner or operator of a vessel of the United States which has adequate capacity to perform the transportation for which the application is submitted has indicated ... an interest in performing the transportation at fair and reasonable rates.” NMFS is publishing this notice as part of its effort to make such a determination with respect to the application described below.

Summary of Application

NMFS has received an application requesting authorization for a Mexican vessel to receive, within the Pacific waters of the U.S. EEZ south of 38°00′ N. lat., transfers of live tuna from U.S. purse seiners for the purpose of transporting the tuna alive to an aquaculture facility located in Baja California, Mexico.

Interested U.S. vessel owners and operators may obtain a copy of the complete application from NMFS (see ADDRESSES).

Dated: July 27, 2005.
Dean Swanson,
Acting Director, Office of International Affairs, National Marine Fisheries Service.

[FR Doc. 05-15226 Filed 8-1-05; 8:45 am]

BILLING CODE 3510-22-S